DEPARTMENT OF STATE

[Public Notice 4896]

U.S. Advisory Commission on Public Diplomacy; Notice of Meeting

The U.S. Advisory Commission on Public Diplomacy will hold a meeting at the United States Mission to the United Nations at 140 East 45th St., New York on December 7, 2004, from 10-11 a.m. The Commissioners will be briefed by Ambassador Anne Patterson.

The Commission was reauthorized pursuant to Public Law 106-113 (H.R. 3194, Consolidated Appropriations Act, 2000). The U.S. Advisory Commission on Public Diplomacy is a bipartisan Presidentially appointed panel created by Congress in 1948 to provide oversight of U.S. Government activities intended to understand, inform and influence foreign publics. The Commission reports its findings and recommendations to the President, the Congress and the Secretary of State and the American people. Current Commission members include Barbara M. Barrett of Arizona, who is the Chairman; Harold C. Pachios of Maine; Ambassador Penne Percy Korth of Washington, DC; Ambassador Elizabeth F. Bagley of Washington, DC; Charles “Tre” Evers III of Florida; Jay T. Snyder of New York; and Maria Sophia Aguirre of Washington, DC.

Seating is limited. For more information, please contact Leanne Cannon at (202) 203-7880.

Dated: November 24, 2004.
Razvigor Bazala,
(Executive Director Acting) IIP/ACPD, Department of State.

[FR Doc. 04-26505 Filed 11-30-04; 8:45 am]

BILLING CODE 4710-11-P